DEPARTMENT OF TRANSPORTATION

Federal Aviation Administration

Changed Product Rule Ad Hoc Team

AGENCY: Federal Aviation Administration (FAA), DOT.

ACTION: Notice of formation of a rotorcraft changed product rule ad hoc team.

SUMMARY: This notice announces the formation of an Ad Hoc team to develop guidance material for the application of the Changed Product Rule (CPR) to rotorcraft type certification (reference “Type Certification Procedures for Changed Products” (65 FR 36244, June 7, 2000)).

DATES: Nominations must be received by December 5, 2000.

ADDRESSES: Submit nominations to Sharon Miles at the address under FOR FURTHER INFORMATION CONTACT.

FOR FURTHER INFORMATION CONTACT: Sharon Miles, Aerospace Engineer, FAA, Rotorcraft Directorate, Rotorcraft Regulations Group, 2601 Meacham Blvd., Fort Worth, Texas 76137, telephone (817) 222-5122, fax (817) 222-5961, email: sharon.y.miles@faa.gov.

SUPPLEMENTARY INFORMATION: A team is being formed to develop guidance material for the application of the Changed Product Rule (CPR) to rotorcraft type certification. The guidance material is being developed in conjunction with the FAA, the Joint Aviation Authorities (JAA), and rotorcraft manufacturers. Participation on this team may nvolve attendance at meetings requiring international travel. Participants will be expected to attend all meetings at their own expense. Participants will also be required to interact with other members via electronic mail and other written correspondence. The first meeting is tentatively scheduled for February 27-28, 2001, in Fort Worth, Texas.

Interested persons are invited to participate on this Ad Hoc team, but participation will be limited to the space available. If you are interested in participating in the development of rotorcraft CPR guidance material, you must contact the person listed under the heading FOR FURTHER INFORMATION CONTACT no later than December 5, 2000.

Issued in Fort Worth, Texas, on November 21, 2000.
Eric Bries,
Acting Manager, Rotorcraft Directorate, Aircraft Certification Service.

[FR Doc. 00-30526 Filed 11-29-00; 8:45 am]

BILLING CODE 4910-13-M